FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 40901 of the Shipping Act of 1984 (46 U.S.C. 40101). Notice is also hereby given of the filing of applications to amend an existing OTI license or the Qualifying Individual (QI) for a licensee.

Interested persons may contact the Office of Transportation Intermediaries, Federal Maritime Commission, Washington, DC 20573, by telephone at (202) 523-5843 or by email at OTI@fmc.gov.

AG Technical Group, LLC (NVO & OFF), 10894 Stinson Drive, Dallas, TX 75217, Officer: Ephraim C. Eke, Managing Director (Qualifying Individual), Application Type: New NVO & OFF License.

Central Ohio Logistics Center, LLC (NVO), 11080 State Route 729, Jeffersonville, OH 43128, Officers: David A. McElwain, Manager (Qualifying Individual), David W. Martin, Manager, Application Type: New NVOCC License.

DEC Global Logistics Inc. (OFF), 3803 Cicada Lane, Houston, TX 77039, Officers: David Alfaro, Vice President (Qualifying Individual), Carlos E. Alfaro, President, Application Type: Name Change.

Roosevelt Elias dba E Global Shipping Line (NVO & OFF), 108 Inverness Drive, Montgomery, TX 77356, Officer: Roosevelt Elias, Sole Proprietor (Qualifying Individual), Application Type: New NVO & OFF License.

Garces & Garces Cargo Service, Inc. (NVO & OFF), 2605 NW 75th Street, Miami, FL 33122, Officers: Luis A. Gonzalez, Vice President (Qualifying Individual), Patricia Garces Ruiz, President, Application Type: New NVO & OFF License.

Innocent Peter Ajaroh dba Innglo Global (OFF), 2427 Texana Way, Richmond, TX 77406, Officer: Innocent Peter Ajaroh, Sole Proprietor (Qualifying Individual), Application Type: New OFF License.

Mega Shipping, Inc. (NVO & OFF), 9550 Flair Drive, #409, El Monte, CA 91731, Officer: Yuwei Chen, CEDO/Secretary/CFO (Qualifying Individual), Application Type: Add OFF Service.

Meiko America, Inc. (NVO & OFF), 19600 Magellan Drive, Torrance, CA 90502, Officers: Michael R. Sole, Vice President (Qualifying Individual), Kazuyoshi Ito, President/CFO, Application Type: Add NVO Service.

Nidsan Shipping Inc. (NVO), 167 Madison Avenue, Suite 500, New York, NY 10016, Officers: Liaquat U. Begum, President (Qualifying Individual), Aziz Unnisa, Vice President, Application Type: New NVO License.

Norman G. Jensen, Inc. dba Jensen Marine Services (NVO & OFF), 3050 Metro Drive, Suite 300, Minneapolis, MN 55425, Officers: Scott Brunclik, Assistant Vice President (Qualifying Individual), Gordon A. Jensen, President, Application Type: QI Change.

Novomarine Container Line LLC (NVO & OFF), 1647 Capesterre Drive, Orlando, FL 32824, Officer: Aleksey Y. Demshin, Managing Member (Qualifying Individual), Application Type: QI Change.

PNG Worldwide, LLC (NVO & OFF), 120 Church Road, Lititz, PA 17543, Officers: Michelle L. Bisesi, COO (Qualifying Individual), Patriciu N. Glavce, President/Owner/Member, Application Type: New NVO & OFF License.

Seaway Export, LLC (NVO & OFF), 175A Container Road, Savannah, GA 31415, Officer: Aleksey Anikin, Manager/President (Qualifying Individual), Application Type: New NVO & OFF License.

Sermar Enterprises, Inc. (OFF), 7001 NW 84th Avenue, Miami, FL 33166, Officer: Sergio Martinez, President/Secretary (Qualifying Individual), Application Type: New OFF License.

Dated: July 13, 2012.
Karen V. Gregory,
Secretary.

[FR Doc. 2012-17474 Filed 7-17-12; 8:45 am]

BILLING CODE 6730-01-P